DEPARTMENT OF JUSTICE

[OMB Number 1190-New]

Agency Information Collection Activities; Proposed eCollection eComments Requested; New Collection

AGENCY: Civil Rights Division, Department of Justice.

ACTION: 30-Day notice.

SUMMARY: The Department of Justice, Civil Rights Division, is submitting the following information collection request to the Office of Management and Budget (OMB) for review and approval in accordance with the Paperwork Reduction Act of 1995.

DATES: Comments are encouraged and will be accepted for 30 days until April 1, 2020.

FOR FURTHER INFORMATION CONTACT: If you have additional comments especially on the estimated public burden or associated response time, suggestions or need a copy of the proposed information collection instrument with instructions or additional information, please contact Daniel Yi, Senior Counsel for Innovation, Civil Rights Division, U.S. Department of Justice, 950 Pennsylvania Avenue NW, Washington, DC 20009. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Civil Rights Division, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New Collection.

2. The Title of the Form/Collection: Reporting Portal for Civil Rights Violations.

3. The agency for number, if any, and the applicable component of the Department sponsoring the collection: There is no agency form number for this collection. The applicable component within the Department of Justice is the Civil Rights Division.

4. Affected public who will be asked or required to respond, as well as a brief abstract: This form will be made available online to be used by individual complainants at their discretion and convenience. The use of the form is voluntary.

The Civil Rights Division of the U.S. Department of Justice enforces the nation's federal civil rights statutes. Members of the public play a critical role in this effort by reporting civil rights violations to the Division. To facilitate this reporting process, the Division is developing a streamlined online Reporting Portal for Civil Rights Violations. This Portal is designed to facilitate and enhance individual complainant's reporting opportunities, save members of the public time in reporting violations, and improve how the Division responds to those reports. The information the Division plans to collect using the reporting portal will help the Division fulfill its enforcement responsibilities under the statutes outlined above.

5. An estimate of the total number of respondents and the amount of time estimated for an average respondent to respond: There are an estimated 36,000 respondents for this information collection a year. The respondent normally responds 1 time annually. The total number of yearly responses is 36,000. It is estimated that it takes 10 minutes to learn about the law and the Complaint Form and 20 minutes to complete the Complaint Form.

6. An estimate of the total public burden (in hours) associated with the collection: Total burden hours are estimated at 18,000.

If additional information is required contact: Melody Braswell, Department Clearance Officer, United States Department of Justice, Justice Management Division, Policy and Planning Staff, Two Constitution Square, 145 N Street NE, 3E.405A, Washington, DC 20530.

Dated: February 25, 2020.
Melody Braswell,
Department Clearance Officer for PRA, U.S. Department of Justice.

[FR Doc. 2020-04149 Filed 2-28-20; 8:45 am]

BILLING CODE 4410-14-P